DEPARTMENT OF ENERGY

Federal Energy Regulatory Commission

[Docket No. EL05-117-000]

Old Dominion Electric Cooperative Complainant v. The Potomac Edison Company d/b/a Allegheny Power, Respondent; Notice of Complaint Filing

May 25, 2005.

Take notice that on May 23, 2005, Old Dominion Electric Cooperative (“Old Dominion”) filed a Complaint against the Potomac Edison Company d/b/a Allegheny Power. In its Complaint, Old Dominion requests that the Commission direct Allegheny to revise its rates charged to Old Dominion for subtransmission/distribution service so that such rates are calculated on a rolled-in, as opposed to direct assignment, basis.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protest must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 14, 2005.

Linda Mitry,
Deputy Secretary.

[FR Doc. E5-2777 Filed 6-1-05; 8:45 am]

BILLING CODE 6717-01-P